DEPARTMENT OF ENERGY

Federal Energy Regulatory Commission

[Docket No. ER01-817-001, et al.]

New England Power Company, et al.; Electric Rate and Corporate Regulation Filings

March 30, 2001.

Take notice that the following filings have been made with the Commission:

1. New England Power Company

[Docket No. ER01-817-001]

Take notice that on March 27, 2001, in compliance with the Commission's letter order dated January 26, 2001 and Order No. 614, New England Power Company (NEP), as successor to Montaup Electric Company, tendered for filing a complete revised Service Agreement No. 12 (Eastern Edison Company) under Montaup Electric Company, FERC Electric Tariff, First Revised Volume No. 1.

NEP states that a copy of this filing has been served upon each of the parties that was served by NEP in Docket No. ER01-817-000.

Comment date: April 17, 2001, in accordance with Standard Paragraph E at the end of this notice.

2. New England Power Company

[Docket No. ER01-820-001]

Take notice that on March 27, 2001, in compliance with the Commission's letter order dated January 26, 2001 and Order No. 614, New England Power Company (NEP) tendered for filing complete revised:

(1) Service Agreement No. 23 between NEP and The Narragansett Electric Company under NEP's FERC Electric Tariff, Original Volume No. 1; and

(2) Service Agreement No. 20 between NEP and Massachusetts Electric Company and Nantucket Electric Company under NEP's FERC Electric Tariff, Original Volume No. 1.

NEP states that a copy of this filing has been served upon each of the parties that was served by NEP in Docket No. ER01-820-000.

Comment date: April 17, 2001, in accordance with Standard Paragraph E at the end of this notice.

3. Pacific Gas and Electric Company

[Docket No. ER01-839-003]

Take notice that on March 27, 2001, Pacific Gas and Electric Company (PG&E) tendered for filing a corrected tariff sheet to its Transmission Owner (TO) Tariff, FERC Electric Tariff Sixth Revised Volume No. 5. These revisions correct the statement of certain revenue requirements accepted for filing in Docket No. ER01-839-000.

Copies of this filing were served upon the Public Utilities Commission of the State of California and all interested parties.

Comment date: April 17, 2001, in accordance with Standard Paragraph E at the end of this notice.

4. Boston Edison Company

[Docket No. ER01-890-001]

Take notice that on March 27, 2001, Boston Edison Company, tendered for filing an unexecuted Interconnection Agreement with Sithe Mystic Development LLC.

The interconnection Agreement contains appropriate designations as required by Order No. 614.

Comment date: April 17, 2001, in accordance with Standard Paragraph E at the end of this notice.

5. MidAmerican Energy Company

[Docket No. ER01-985-001]

Take notice that on March 27, 2001, MidAmerican Energy Company (MidAmerican), 401 Douglas Street, P.O. Box 778, Sioux City, Iowa 51102, tendered for filing an amendment with the Commission in compliance with Order 614 a Network Integration Transmission Service Agreement and Network Operating Agreement, designated as 1st Revised Service Agreement No. 53, entered into by MidAmerican and the City of Sergeant Bluff, Iowa, dated December 29, 2000.

The Agreement replaces the Network Integration Transmission Service Agreement and Network Operating Agreement dated April 7, 1997, between the parties.

Comment date: April 17, 2001, in accordance with Standard Paragraph E at the end of this notice.

6. Midwest Energy, Inc.

[Docket No. ER01-1064-001]

Take notice that on March 27, 2001, Midwest Energy, Inc., tendered for filing designations in compliance with the Commission's Order No. 614.

Comment date: May 5, 2001, in accordance with Standard Paragraph E at the end of this notice.

7. Public Service Company of New Mexico

[Docket No. ER96-1551-006]

Take notice that on March 27, 2001, Public Service Company of New Mexico, tendered for filing an amendment to its updated market power analysis originally filed with the Commission on March 26, 2001, in the above referenced proceeding.

Comment date: April 17, 2001, in accordance with Standard Paragraph E at the end of this notice.

8. Pacific Gas and Electric Company

[Docket No. ER01-1623-000]

Take notice that on March 27, 2001, Pacific Gas and Electric Company (PG&E) tendered for filing Amendment No. 6 to PG&E Rate Schedule FERC No. 136, PG&E-Sacramento Municipal Utility District (SMUD) Interconnection Agreement. PG&E also submits annual rate adjustments to transmission service rates for PG&E Rate Schedules FERC Nos. 88, 91 and 136, effective July 1, 2000.

PG&E has also requested a waiver of the Commission's notice requirements to allow the effective dates requested.

Copies of this filing have been served upon SMUD, the California Independent System Operator Corporation and the California Public Utilities Commission.

Comment date: April 17, 2001, in accordance with Standard Paragraph E at the end of this notice.

9. Delmarva Power & Light Company

[Docket No. ER01-1627-000]

Take notice that on March 27, 2001, Delmarva Power & Light Company (Delmarva) tendered for filing a short-form market-based rate tariff, which included a form of umbrella service agreement. The proposed market-based rate tariff does not replace Delmarva's existing market-based rate tariff, FERC Electric Tariff, Third Revised Volume No. 14. Delmarva requests waiver of the Commission's notice of filing requirements to allow the proposed tariff to become effective on March 28, 2001, the day after filing.

Delmarva has served this filing upon Delmarva's customers under its existing market-based rate tariff and the Delaware Public Service Commission, the Maryland Public Service Commission and the Virginia State Corporation Commission.

Comment date: April 17, 2001, in accordance with Standard Paragraph E at the end of this notice.

10. The Dayton Power and Light Company

[Docket No. ER01-1628-000]

Take notice that on March 27, 2001, The Dayton Power and Light Company (Dayton) tendered for filing service agreements establishing The Dayton Power & Light Company (Energy Services) as customers under the terms of Dayton's Open Access Transmission Tariff.

Dayton requests an effective date of one day subsequent to this filing for the service agreements. Accordingly, Dayton requests waiver of the Commission's notice requirements. Copies of this filing were served upon The Dayton Power & Light Company (Energy Services) and the Public Utilities Commission of Ohio.

Comment date: April 17, 2001, in accordance with Standard Paragraph E at the end of this notice.

11. Atlantic City Electric Company

[Docket No. ER01-1629-000]

Take notice that on March 27, 2001, Atlantic City Electric Company (Atlantic) tendered for filing a short-form market-based rate tariff, which included a form of umbrella service agreement. The proposed market-based rate tariff does not replace Atlantic's existing market-based rate tariff, FERC Electric Tariff, Third Revised Volume No. 1. Atlantic requests waiver of the Commission's notice of filing requirements to allow the proposed tariff to become effective on March 28, 2001, the day after filing.

Atlantic has served this filing upon Atlantic's customers under its existing market-based rate tariff and the State of New Jersey Board of Public Utilities.

Comment date: April 17, 2001, in accordance with Standard Paragraph E at the end of this notice.

12. New York State Electric & Gas Corporation

[Docket No. ER01-1630-000]

Take notice that on March 27, 2001, New York State Electric & Gas Corporation (NYSEG), tendered for filing pursuant to Section 35.15 of the Commission's Rules, 18 CFR § 35.15 (1999), a Notice of Cancellation of Service Agreement Nos. 1/119 and 1/161. NYSEG requests that the Notice of Cancellation be deemed effective as of September 1, 2000 for Constellation Power Source, Inc. and August 1, 2000 for Morgan Stanley Capital Group, Inc.

To the extent required to give effect to the Notice of Cancellation, NYSEG requests waiver of the notice requirements pursuant to Section 35.15 of the Commission's Rules, 18 CFR § 35.15 (1999).

NYSEG served copies of the Notice of Cancellation on the customers previously receiving service under Service Agreement Nos. 1/119 and 1/161, and the New York State Public Service Commission.

Comment date: April 17, 2001, in accordance with Standard Paragraph E at the end of this notice.

13. Consumers Energy Company

[Docket No. ER01-1631-000]

Take notice that on March 27, 2001, Consumers Energy Company (Consumers) tendered for filing an executed service agreement for unbundled wholesale power service with CMS Marketing, Services and Trading Company pursuant to Consumers' Market Based Power Sales Tariff accepted for filing in Docket No. ER98-4421-000.

Copies of the filing have been served on the Michigan Public Service Commission and the customers under the service agreement.

Comment date: April 17, 2001, in accordance with Standard Paragraph E at the end of this notice.

14. Consumers Energy Company

[Docket No. ER01-1632-000]

Take notice that on March 27, 2001, Consumers Energy Company (Consumers) tendered for filing a Service Agreement with The Dayton Power and Light Company, (Customer) under Consumers FERC Electric Tariff No. 9 for Market Based Sales. Consumers requested that the Agreement be allowed to become effective April 1, 2001.

Copies of the filing were served upon the Customer and the Michigan Public Service Commission.

Comment date: April 17, 2001, in accordance with Standard Paragraph E at the end of this notice.

15. Southern Company—Florida LLC

[Docket No. ER01-1633-000]

Take notice that on March 27, 2001, Southern Company—Florida LLC, tendered for filing an application requesting acceptance of its proposed Market Rate Tariff, waiver of certain regulations, and blanket approvals. The proposed tariff would authorize Southern Company—Florida LLC to engage in wholesale sales of capacity and energy to eligible customers at market rates.

Comment date: April 17, 2001, in accordance with Standard Paragraph E at the end of this notice.

15. Consumers Energy Company

[Docket No. ER01-1634-000]

Take notice that on March 27, 2001, Consumers Energy Company (Consumers) tendered for filing an executed service agreement for unbundled wholesale power service with First Energy Corp. pursuant to Consumers' Market Based Power Sales Tariff accepted for filing in Docket No. ER98-4421-000.

Copies of the filing have been served on the Michigan Public Service Commission and the customers under the service agreement.

Comment date: April 17, 2001, in accordance with Standard Paragraph E at the end of this notice.

17. AIG Energy Trading Inc.

[Docket No. ER01-1635-000]

On March 27, 2001, AIG Energy Trading Inc. (Seller) tendered for filing a petition for an order: (1) Accepting Seller's proposed FERC Electric Tariff (Market-Based Rate Tariff); (2) granting waiver of certain requirements under Subparts B and C of Part 35 of the regulations, (3) granting the blanket approvals normally accorded sellers permitted to sell at market-based rates, and (4) granting waiver of the 60-day notice period.

Comment date: April 17, 2001, in accordance with Standard Paragraph E at the end of this notice.

18. Southwest Power Pool, Inc.

[Docket No. ER01-1636-000]

Take notice that on March 27, 2001, Southwest Power Pool, Inc. (SPP) tendered for filing an executed service agreement for Firm Point-to-Point Transmission Service with Western Resources (Transmission Customer). SPP seeks an effective date of May 1, 2001 for this service agreement.

A copy of this filing was served on the Transmission Customer.

Comment date: April 17, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8586 Filed 4-6-01; 8:45 am]

BILLING CODE 6717-01-P